DEPARTMENT OF HEALTH AND HUMAN SERVICES

Centers for Disease Control and Prevention

[60-Day-14-14AYC]

Proposed Data Collections Submitted for Public Comment and Recommendations

The Centers for Disease Control and Prevention (CDC), as part of its continuing effort to reduce public burden, invites the general public and other Federal agencies to take this opportunity to comment on proposed and/or continuing information collections, as required by the Paperwork Reduction Act of 1995. To request more information on the below proposed project or to obtain a copy of the information collection plan and instruments, call 404-639-7570 or send comments to Leroy A. Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

Behavioral Risk Factor Surveillance System (BRFSS)—Existing Collection In Use Without an OMB Control Number—National Center for Chronic Disease Prevention and Health Promotion (NCCDPHP)—Centers for Disease Control and Prevention (CDC).

Background and Brief Description

CDC seeks OMB approval to collect information through the Behavioral Risk Factor Surveillance System (BRFSS). The BRFSS is a system of customized telephone surveys conducted by U.S. states, territories, and the District of Columbia to produce state-level data about health-related risk behaviors, chronic health conditions, use of preventive services, and emerging health issues. Information collection is conducted primarily to support state and local health departments, which plan and evaluate public health programs at the state or sub-state level. Information collected through the BRFSS is also used by the federal government and other entities.

Scientific research shows that personal health behaviors play a major role in premature morbidity and mortality. Patterns of behavior that affect health or predict adverse effects on health are called behavioral risk factors. For example, lack of physical activity is a behavioral risk factor for obesity, type 2 diabetes, cardiovascular diseases, and other diseases and conditions. Although national estimates of some health risk behaviors among U.S. populations are available, the methods used to produce national estimates do not typically produce the type of detailed information needed to plan and implement public health programs; moreover, national estimates provide only limited insight into regional or state-specific variability in health status and risk factors. Information that is specific to public health jurisdictions is required to guide the administration of public health programs.

CDC is requesting OMB approval to conduct information collection for the Behavioral Risk Factor Surveillance System (BRFSS). The BRFSS is a nationwide system of cross-sectional telephone health surveys administered by health departments in states, territories, and the District of Columbia (collectively referred to as states) in collaboration with CDC. The BRFSS produces state-level information primarily on health risk behaviors, health conditions, and preventive health practices that are associated with chronic diseases, infectious diseases, and injury. Information collection is sponsored by CDC under the BRFSS cooperative agreement with states and territories. Under this partnership, questionnaire content is determined by BRFSS state coordinators with technical and methodological assistance provided by CDC. The BRFSS is designed to meet the data needs of individual states and territories. For most states and territories, the BRFSS provides the only sources of data amenable to state and local level health and health risk indicators. Over time it has also developed into an important data collection system that federal agencies rely on for state and local health information and to track national health objectives such as Healthy People. Therefore, although the BRFSS remains primarily a state needs-driven system, in consultation with OMB, CDC is requesting OMB approval of BRFSS data collection beginning with the 2015 cycle.

The BRFSS questionnaire is comprised of two parts: The core questionnaire and optional modules. The BRFSS core questionnaire consists of fixed core, rotating core, and emerging core questions. Fixed core questions are asked every year. Rotating core questions cycle on and off the core questionnaire during even or odd years, depending on the question. Emerging core questions are included in the core questionnaire as needed to collect data on urgent or emerging health topics such as influenza. Optional modules are offered by CDC annually depending on data needs and funding availability. In off-years when the rotating questions are not included in the core questionnaire, they are offered to states as an optional module.

All participating states are required to administer the core questionnaire, which provides a set of shared health indicators for all BRFSS partners. The current estimated average burden per interview is 15 minutes for the core. States may select which, if any, optional modules to administer. These modules provide the information needed for state-specific public health assessments and program planning. The estimated average burden per response varies by state and year, but is currently estimated at 15 minutes for the optional component. In order to maintain consistency, the states and CDC set standard protocols for BRFSS data collection which all states are encouraged to adopt. These standards allow for state-to-state data comparisons as well as comparisons over time. The BRFSS allows states to customize some portions of the questionnaire through the addition of state-added questions, which are neither reviewed nor approved by the CDC, and meet the specific data needs of individual state health departments.

The CDC and BRFSS partners produce a new set of state-specific BRFSS questionnaires each calendar year (i.e., 2015 BRFSS questionnaires, 2016 BRFSS questionnaires, etc.). Each state administers its BRFSS questionnaire throughout the calendar year. In response to unanticipated public health needs, limited modifications may be incorporated mid-cycle. The BRFSS partnership thus results in a flexible, coordinated information collection system that is adaptive to national and state-specific needs.

Each state's data collection plan uses two samples: one for landline telephone respondents and one for cellular telephone respondents. States obtain samples of telephone numbers from CDC. For persons interviewed on landline telephones, individual respondents will be randomly selected from all adults, aged 18 years and older, living in a household. Cellphone interviews will be conducted with respondents who answer the number called and are treated as one-person households.

Computer-assisted telephone interviewing (CATI) programming is provided by the CDC to states to convert the BRFSS questionnaire into a CATI interface from which interviewers will read and record answers to each question. States may opt to use their own CATI programming software. States must develop and maintain procedures to ensure respondents' privacy, assure and document the quality of the interviewing process, and supervise and monitor trained interviewers. States submit information to CDC monthly, or quarterly with an approved exception. The CDC provides post-data collection technical assistance including data cleaning and weighting as well as production of data quality and user reports.

CDC also makes BRFSS data sets available for public use and provides guidance on statistically appropriate uses of the data. Due to the variety and complexity of data collection methods employed, CDC and states frequently collaborate on methodological issues to improve the quality and efficiency of information collection and analysis. CDC plans to submit one or more additional information collection requests to OMB that will establish the clearance mechanism(s) needed to support new areas of interest, quality improvement, and innovation (such as protocol enhancements, requests for methodological studies and cognitive testing of new questions). OMB approval for state- and territory-specific BRFSS questionnaires is requested for three years. CDC's authority to collect this information is provided by the Public Health Service Act. Data obtained from the BRFSS surveys will allow states, CDC, policy makers, and other data users to track state and nationwide trends in the burden of disease, prioritize the allocation of health resources, plan and implement targeted public health interventions, and set and track progress towards meeting objectives for improving health, including selected Healthy People 2020 targets.

Participation in the BRFSS is voluntary and there are no costs to respondents other than their time.

Estimated Annualized Burden Hours
Type of respondents | Form name | Number of respondents | Number of responses per respondent | Average burden per response (in hr) | Total burden (in hr)
U.S. General Population | Landline Screener | 440,486 | 1 | 1/60 | 7,341
| Cell Phone Screener | 223,334 | 1 | 1/60 | 3,722
Adults > 18 Years | Core Survey | 494,650 | 1 | 15/60 | 123,662
| Optional Modules | 484,757 | 1 | 15/60 | 121,189
Total |  |  |  |  | 255,914

Leroy A. Richardson
Chief, Information Collection Review Office, Office of Scientific Integrity, Office of the Associate Director for Science, Office of the Director, Centers for Disease Control and Prevention.

[FR Doc. 2014-21909 Filed 9-12-14; 8:45 am]

BILLING CODE 4163-18-P